DEPARTMENT OF THE TREASURY

Submission for OMB Review; Comment Request

October 16, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before November 20, 2006 to be assured of consideration.

Internal Revenue Service (IRS)

OMB Number: 1545-0231.

Type of Review: Extension.

Title: Credit for Alcohol Used as Fuel.

Forms: 6478.

Description: Internal Revenue Code section 38(b)(3) allows a nonrefundable income tax credit for businesses that sell or use alcohol. Small ethanol producers also receive a nonrefundable credit for production of qualified ethanol. Form 6478 is used to figure the credits.

Respondents: Businesses and for-profit institutions.

Estimated Total Burden Hours: 30,492 hours.

OMB Number: 1545-1693.

Type of Review: Extension.

Title: Political Organization Notice of Section 527 Status; Form 8453-X, Political Organization Declaration for Electronic Filing of Notice of Section 527 Status.

Form: 8871, 8453-X.

Description: Internal Revenue Code section 527, as amended by Public Law 106-230 and Public Law 107-276, requires certain political organizations to provide information to the IRS regarding their name and address, their purpose, and the names and addresses of their officers, highly compensated employees, board of directors, and any related entities (within the meaning of section 168(h)94). Forms 8871 and 8453-X are used for this purpose.

Respondents: Not-for-profit institutions.

Estimated Total Burden Hours: 35,195 hours

OMB Number: 1545-2014.

Type of Review: Extension.

Title: Election to defer look-through treatment of dividend.

Description: The American Jobs Creation Act of 2004 amended the foreign tax credit treatment of dividends from noncontrolled section 902 corporations effective for post 2002 tax year and the GOZA permitted taxpayers to elect to defer the effective data of these amendments until post 2002 tax years. These regulations require a taxpayer making the Gulf Opportunity Zone Act election to file a statement to such effect with its next tax return, and they require certain shareholders wishing to make tax elections on behalf of their controlled foreign corporations or noncontrolled section 902 corporations to execute a joint consent (that is retained by one shareholder) and attach a statement to the company's return.

Respondents: Businesses and other for-profit institutions.

Estimated Total Burden Hours: 25 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Robert Dahl,
Treasury PRA Clearance Officer.

[FR Doc. E6-17598 Filed 10-19-06; 8:45 am]

BILLING CODE 4830-01-P